DEPARTMENT OF TRANSPORTATION

Federal Aviation Administration

[Summary Notice No. PE-2003-40]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains dispositions of certain petitions previously received. The purpose of this notice is to improve the public's awareness of, and participation in, this aspect of FAA's regulatory activities.

FOR FURTHER INFORMATION CONTACT: Timothy R. Adams (202) 267-8033, Sandy Buchanan-Sumter (202) 267-7271, or Denise Emrick (202) 267-5174, Office of Rulemaking (ARM-1), Federal Aviation Administration, 800 Independence Avenue, SW., Washington, DC 20591.

This notice is published pursuant to 14 CFR 11.85 and 11.91.

Issued in Washington, DC, on July 8, 2003.
Donald P. Byrne,
Assistant Chief Counsel for Regulations.

Dispositions of Petitions

Docket No.: FAA-2001-9369.

Petitioner: Department of Homeland Security.

Section of 14 CFR Affected: 14 CFR 91.117(a), (b), and (c), 91.119(c), 91.159(a), and 91.209(a)(1) and (b).

Description of Relief Sought: To permit the Department of Homeland Security, Bureau of Immigration and Customs Enforcement to conduct drug interdiction air support.

Grant, 06/16/2003, Exemption No. 5504D.

Docket No.: FAA-2003-14909.

Petitioner: America West Airlines.

Section of 14 CFR Affected: 14 CFR 121.356(d).

Description of Relief Sought/Disposition: To permit America West Airlines to operate two Airbus Industries A320 Airplanes, after May 1, 2003, that are not equipped with Traffic Alert and Collision Avoidance System II equipment that meets Technical Standard Order C-119b version 7.0.

Denial, 06/12/2003, Exemption No. 8071.

Docket No.: FAA-2001-9976.

Petitioner: United States Ultralight Association.

Section of 14 CFR Affected: 14 CFR 103.1(a) and (e).

Description of Relief Sought/Disposition: To permit individuals authorized by the United States Ultralight Association to give instruction in two-place powered ultralight vehicles, including tandem powered paragliders and paraglider trikes, that have a maximum empty weight of no more than 496 pounds, have a maximum fuel capacity of not more than 10 U.S. gallons, are not capable of more than 75 knots calibrated airspeed at full power in level flight, and have a power-off stall speed that does not exceed 35 knots calibrated airspeed, subject to specific conditions and limitations.

Grant, 06/10/2003, Exemption No. 4274K

Docket No.: FAA-2003-14987.

Petitioner: Island Air, Inc.

Section of 14 CFR Affected: 14 CFR 135.143(c)(2).

Description of Relief Sought/Disposition: To permit Island Air, Inc. to operate certain aircraft under part 135 without a TSO-C112 transponder installed in those aircraft.

Grant, 06/05/2003, Exemption No. 8070.

Docket No.: FAA-2001-9811.

Petitioner: Camera Work, Inc. d.b.a. Fly BVI, Ltd.

Section of 14 CFR Affected: 14 CFR 61.89(a)(5).

Description of Relief Sought/Disposition: To permit Fly BVI, Ltd. student pilots to fly between Tortola, British Virgin Islands, and the airports of the U.S. Virgin Islands and Puerto Rico while fulfilling the cross-country requirements for a private pilot certificate.

Grant, 06/06/2003, Exemption No. 5796E.

Docket No.: FAA-2001-9195.

Petitioner: Helicopter Association International.

Section of 14 CFR Affected: 14 CFR 135.213(a).

Description of Relief Sought/Disposition: To permit part 135 certificate holders that conduct helicopter emergency medical service (EMS) operations and are members of both the Helicopter Association International and the Association of Air Medical Services to conduct EMS departures under instrument flight rules in weather that is at or above visual flight rules minimums from airports or helicopters at which a weather report is not available from the U.S. National Weather Service (NWS), a source approved by the NWS, or a source approved by the administrator.

Grant, 06/06/2003, Exemption No. 6175D.

Docket No.: FAA-2001-9164.

Petitioner: Skinner Aviation, Inc.

Section of 14 CFR Affected: 14 CFR 135.143(c)(2).

Description of Relief Sought/Disposition: To permit Skinner Aviation, Inc. to operate certain aircraft under part 135 without a TSO-C112 transponder installed on those aircraft.

Grant, 05/19/2003, Exemption No. 7635A.

Docket No.: FAA-2003-15035.

Petitioner: Mentone Flying Club.

Section of 14 CFR Affected: 14 CFR 135.251, 135.255, and 135.353, and appendices I and J to part 121.

Description of Relief Sought/Disposition: To permit Mentone Flying Club to conduct local sightseeing flights at the Fulton County Airport for sightseeing flights on June 7, 2003, for compensation or hire, without complying with certain anti-drug and alcohol misuse prevention requirements of part 135.

Grant, 05/30/2003, Exemption No. 8062.

Docket No.: FAA-2003-15038.

Petitioner: Crossville Memorial Airport.

Section of 14 CFR Affected: 14 CFR 135.251, 135.255, and 135.353, and appendices I and J to part 121.

Description of Relief Sought/Disposition: To permit the Crossville Memorial Airport to conduct sightseeing flights on June 14, 2003, for compensation or hire, without complying with certain anti-drug and alcohol misuse prevention requirements of part 135.

Grant, 05/30/2003, Exemption No. 8061.

Docket No.: FAA-2003-15165.

Petitioner: Palmyra Flying Club, Inc.

Section of 14 CFR Affected: 14 CFR 135.251, 135.255, and 135.353, and appendices I and J to part 121.

Description of Relief Sought/Disposition: To permit Palmyra Flying Club, Inc. conduct local sightseeing flights at the Palmyra Airport on June 15, 2003, for compensation or hire, without complying with certain anti-drug and alcohol misuse prevention requirements of part 135.

Grant, 05/30/2003, Exemption No. 8060.

Docket No.: FAA-2001-10587.

Petitioner: American Airlines, Inc.

Section of 14 CFR Affected: 14 CFR 121.457(a) and V.A.1 of appendix I to part 121.

Description of Relief Sought/Disposition: To permit employees performing safety-sensitive functions for TWA Airlines, LLC to perform identical functions for American Airlines, Inc. without being subject to additional pre-employment drug testing.

Grant, 06/18/2003, Exemption No. 7661A.

Docket No.: FAA-2003-15323.

Petitioner: Nelson Aviation Consulting, LLC, d.b.a. Nelson Air.

Section of 14 CFR Affected: 14 CFR 135.143(c)(2).

Description of Relief Sought/Disposition: To permit Nelson Air to operate certain aircraft under part 135 without a TSO-C112 transponder installed in those aircraft.

Grant, 06/06/2003, Exemption No. 8068.

Docket No.: FAA-2002-13209.

Petitioner: Kaman Aerospace Corporation.

Section of 14 CFR Affected: 14 CFR 141.39(d).

Description of Relief Sought/Disposition: To permit Kaman Aerospace Corporation to conduct flight training under its part 141 provisional pilot school certificate in Kaman K-1200 K-MAX helicopters that do not each have at least two pilot stations with engine-power controls.

Denial, 05/16/2003, Exemption No. 8056.

Docket No.: FAA-2001-10542.

Petitioner: SkyLane Helicopters, LLC.

Section of 14 CFR Affected: 14 CFR 135.143(c)(2).

Description of Relief Sought/Disposition: To permit SkyLane Helicopters, LLC to operate certain aircraft under part 135 without a TSO-C112 transponder installed on those aircraft.

Grant, 06/06/2003, Exemption No. 7436A.

Docket No.: FAA-2001-8878.

Petitioner: American Airlines.

Section of 14 CFR Affected: 14 CFR 121.434(c)(3)(ii).

Description of Relief Sought/Disposition: To permit American Airlines to substitute a qualified and authorized check airman in place of an FAA inspector to observe a qualifying pilot in command (PIC) while that PIC is performing prescribed duties during at least one flight leg that includes a takeoff and a landing when completing initial or upgrade training as specified in 121.434.

Grant, 06/20/2002, Exemption No. 6916B.

Docket No.: FAA-2001-10013.

Petitioner: Federal Express.

Section of 14 CFR Affected: 14 CFR 121.623(a) and (d), 121.643, and 121.645(e).

Description of Relief Sought/Disposition: To permit Federal Express to conduct supplemental operations within the 48 contiguous United States and the District of Columbia using the flight regulations for alternate airports as required by 121.619 and the fuel reserve regulations as required by 121.639 that are applicable to domestic operations.

Grant, 06/20/2003, Exemption No. 7608A.

Docket No.: FAA-2003-15358.

Petitioner: Plainwell Pilot's Association.

Section of 14 CFR Affected: 14 CFR 135.251, 135.255, and 135.353, and appendices I and J to part 121.

Description of Relief Sought/Disposition: To permit Plainwell Pilot's Association to conduct local sightseeing flights at the Plainwell Airport on July 4, 2003, for compensation or hire, without certain anti-drug and alcohol misuse prevention requirements of part 135.

Grant, 06/18/2003, Exemption No. 8073.

Docket No.: FAA-2003-15312.

Petitioner: Phillipsburg Aviation.

Section of 14 CFR Affected: 14 CFR 135.251, 135.255, and 135.353, and appendices I and J to part 121.

Description of Relief Sought/Disposition: To permit Phillipsburg Aviation to conduct local sightseeing flights at the Phillipsburg Airport on August 24, 2003, for compensation or hire, without complying with certain anti-drug and alcohol misuse prevention requirements of part 135.

Grant, 06/18/2003, Exemption No. 8074.

Docket No.: FAA-2003-15387.

Petitioner: Ashland County Airport.

Section of 14 CFR Affected: 14 CFR 135.251, 135.255, and 135.353, and appendices I and J to part 121.

Description of Relief Sought/Disposition: To permit Ashland County Airport, in conjunction with Johnston Aviation, to conduct certain local sightseeing flights during June and October 2003, for compensation or hire, without complying with certain anti-drug and alcohol misuse prevention requirements of part 135.

Grant, 06/18/2003, Exemption No. 8075.

Docket No.: FAA-2003-15412.

Petitioner: EK Aviation.

Section of 14 CFR Affected: 14 CFR 135.251, 135.255, and 135.353, and appendices I and J to part 121.

Description of Relief Sought/Disposition: To permit EK Aviation to conduct certain local sightseeing flights during July and September 2003, for compensation or hire, without complying with certain anti-drug and alcohol misuse prevention requirements of part 135.

Grant, 06/18/2003, Exemption No. 8076.

[FR Doc. 03-17657 Filed 7-11-03; 8:45 am]

BILLING CODE 4910-13-P